DEPARTMENT OF HEALTH AND HUMAN SERVICES

[Document Identifier: OS-0990—New; 60-Day Notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Evaluation of Adolescent Pregnancy Prevention Approaches and the Impact Evaluation of the Teen Pregnancy Prevention Program Grantees: Baseline Data Collection—OMB No. OS-0990—NEW—Office of Adolescent Health in collaboration with the Administration for Children and Families and the Office of the Assistant Secretary for Planning and Evaluation.

Abstract: The Office of Adolescent Health (OAH), Office of the Assistant Secretary for Health (OASH), U.S. Department of Health and Human Services (HHS), is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH has provided funding to ACF to oversee the implementation of the Evaluation of Adolescent Pregnancy Prevention Approaches (PPA). PPA is a random assignment evaluation which will expand available evidence on effective ways to reduce teen pregnancy. The evaluation will document and test a range of pregnancy prevention approaches in up to eight program sites.

OAH will jointly oversee with ASPE the Impact Evaluation of the Teen Pregnancy Prevention Program Grantees (TPP Impact Evaluation). The TPP Impact Evaluation will be a random assignment evaluation which will determine whether program models funded as part of the OAH evidence-based Teen Pregnancy Prevention Initiative are effective at preventing teen pregnancy, reducing sexually transmitted infections, and/or impacting sexual risk behaviors.

The findings from both evaluations will be of interest to the general public, to policy-makers, and to organizations interested in teen pregnancy prevention.

Estimated Annualized Burden Table
Instrument | Annual number of respondents | Number of responses per respondent | Average burden hours per response | Total annual burden hours
Evaluation of Adolescent Pregnancy Prevention Approaches (PPA)
Baseline Instrument | 3,600 | 1 | 30/60 | 1,800
School Records, Performance, and Program Participation Data Collection | 8 | 1 | 8 | 64
Impact Evaluation of the Teen Pregnancy Prevention Program Grantees (TPP Evaluation)
Baseline Instrument | 8,080 | 1 | 30/60 | 4,040
School Records, Performance and Program Participation Data Collection | 12 | 1 | 8 | 96
Total for both evaluations |  |  |  | 6,000

Seleda Perryman,
Office of the Secretary, Paperwork Reduction Act Reports Clearance Officer.

[FR Doc. 2011-6078 Filed 3-15-11; 8:45 am]

BILLING CODE 4150-30-P